DEPARTMENT OF THE TREASURY

Internal Revenue Service

Proposed Collection; Comment Request for Form 1099-NEC; Correction

AGENCY: Internal Revenue Service (IRS), Treasury.

ACTION: Notice and request for comments; correction.

SUMMARY: The Internal Revenue Service, as part of its continuing effort to reduce paperwork and respondent burden, invites the general public and other Federal agencies to take this opportunity to comment on proposed and/or continuing information collections, as required by the Paperwork Reduction Act of 1995. Currently, the IRS is soliciting comments concerning Form 1099-NEC, Nonemployee Compensation. This notice was previously published with an erroneous phone number. That phone number is corrected in the FOR FURTHER INFORMATION CONTACT paragraph.

DATES: Written comments should be received on or before October 4, 2019 to be assured of consideration.

ADDRESSES: Direct all written comments to Laurie Brimmer, Internal Revenue Service, Room 6526, 1111 Constitution Avenue NW, Washington, DC 20224.

FOR FURTHER INFORMATION CONTACT: Requests for additional information or copies of the form and instructions should be directed to Dionne McLeod, at (267) 941-6267, Internal Revenue Service, Room 3256, 600 Arch Street, Philadelphia, PA 19106. or through the internet at Dionne.a.McLeod@irs.gov.

SUPPLEMENTARY INFORMATION:

Title: Nonemployee Compensation.

OMB Number: 1545-0116.

Form Number: 1099-NEC.

Abstract: Form 1099-NEC is used to report payments made in the course of a trade or business for services performed by someone who is not an employee, cash payments for fish and withholding of federal income tax under the backup withholding rules.

Current Actions: The PATH Act accelerated the due date for filing of Form 1099 that include nonemployee compensation (NEC) from February 28 to January 31, and eliminated the automatic 30-day extension for forms that include NEC. Continuing to include NEC on Form 1099-MISC will increase the submission burden on taxpayers because they will have to separate those forms with NEC from those without. It also requires analysis of Forms 1099-MISC by the IRS to be able to determine the proper due date and apply late filing penalties appropriately. To alleviate the burden and eliminate confusion regarding due dates, IRS reinstated Form 1099-NEC. There will be a change in the paperwork burden previously approved by OMB.

Type of Review: Reinstatement of a previously approved information collection.

Affected Public: Individuals, business or other for-profit organizations, not for-profit institutions, farms and Federal, state, local or tribal governments.

Estimated Number of Respondents: 70,802,480.

Estimated Time per Respondent: 5 minutes.

Estimated Total Annual Burden Hours: 5,900,206.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: July 30, 2019.
Laurie Brimmer,
Senior Tax Analyst.

[FR Doc. 2019-16604 Filed 8-2-19; 8:45 am]

BILLING CODE 4830-01-P